DEPARTMENT OF HEALTH AND HUMAN SERVICES

Centers for Disease Control and Prevention

[30Day-21-20PE]

Agency Forms Undergoing Paperwork Reduction Act Review

In accordance with the Paperwork Reduction Act of 1995, the Centers for Disease Control and Prevention (CDC) has submitted the information collection request titled Operational Readiness Review 2.0 to the Office of Management and Budget (OMB) for review and approval. CDC previously published a “Proposed Data Collection Submitted for Public Comment and Recommendations” notice on June 23, 2020 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Operational Readiness Review 2.0—Existing Information Collection in Use Without an OMB Control Number—Center for Preparedness and Response (CPR), Centers for Disease Control and Prevention (CDC).

Background and Brief Description

To help evaluate the country's public health emergency preparedness and response capacity, the Centers for Disease Control and Prevention's Division of State and Local Readiness (DSLR) administers the Public Health Emergency Preparedness (PHEP) cooperative agreement. The PHEP program is a critical source of funding for 62 state, local, and territorial jurisdictions, including four major metropolitan areas (Chicago, Los Angeles County, New York City, and Washington, DC) to build and strengthen their ability to respond to and recover from public health emergencies.

The Operational Readiness Review (ORR) is a rigorous, evidence-based assessment used to evaluate PHEP recipients' planning and operational functions. The previous version of the ORR evaluated a jurisdiction's ability to execute a large emergency response requiring medical countermeasure (MCM) distribution and dispensing. The purpose of the new ORR 2.0 is to expand measurement and evaluation to all 15 Public Health Emergency Preparedness and Response Capabilities, which serve as national standards for public health preparedness planning. The capabilities are: 1—Community Preparedness, 2—Community Recovery, 3—Emergency Operations Coordination, 4—Emergency Public Information and Warning, 5—Fatality Management, 6—Information Sharing, 7—Mass Care, 8—Medical Countermeasure Dispensing and Administration, 9—Medical Materiel Management and Distribution, 10—Medical Surge, 11—Nonpharmaceutical Intervention, 12—Public Health Laboratory Testing, 13—Public Health Surveillance and Epidemiological Investigation, 14—Responder Safety and Health, and 15—Volunteer Management. These capabilities serve as national standards for public health preparedness planning.

The ORR 2.0 will have three modules: Descriptive, planning, and operational, which will allow DSLR to analyze the data for the development of descriptive statistics and to monitor the progress of each recipient towards performance goals. The four major metropolitan areas have additional reporting requirements that are incorporated into the operational module. The intended outcome of the ORR 2.0 is to assist CDC in identifying strengths and challenges facing preparedness programs across the nation, and to identify opportunities for improvement and further technical support.

Information will be collected from respondents using the new Operational Readiness Review (ORR) 2.0 platform, but a backup paper option is available for jurisdictions that require it. Information collected from respondents is a requirement of the PHEP Cooperative Agreement for participants to receive funding. CDC requests a three-year approval for this information collection. The total annualized burden estimate is 3,055 hours. There is no cost to respondents other than their time.

Estimated Annualized Burden Hours
Type of respondent | Form name | Number of respondents | Number of responses per respondent | Avg. burden per response (in hours)
All PHEP Awardees: State, local, territorial, and metropolitan area jurisdictions | Descriptive Module: Jurisdictional structure sheet | 62 | 1 | 3
| Critical contact sheet (CCS) | 62 | 1 | 80/60
| Jurisdictional data sheet (JDS) | 62 | 1 | 2.5
| Partner planning sheet | 62 | 1 | 8
| Workforce development and training | 62 | 1 | 1.5
All PHEP Awardees: State, local, territorial, and metropolitan area jurisdictions | Planning Module: Capability 1 Capability 2 | 62 62 | 1 1 | 1 1
| Capability 3 | 62 | 1 | 2
| Capability 4 | 62 | 1 | 1.5
| Capability 5 | 62 | 1 | 2.5
| Capability 6 | 62 | 1 | 1
| Capability 7 | 62 | 1 | 2
| Capability 8 | 62 | 1 | 3
| Capability 9 | 62 | 1 | 195/60
| Capability 10 | 62 | 1 | 2
| Capability 11 | 62 | 1 | 1.5
| Capability 12 | 62 | 1 | 1.5
| Capability 13 | 62 | 1 | 2.5
| Capability 14 | 62 | 1 | 1.5
| Capability 15 | 62 | 1 | 75/60
All PHEP Awardees: State, local, territorial, and metropolitan area jurisdictions | Operations Module: Ops 1 Ops 2 | 62 62 | 3 3 | 20/60 15/60
| Tabletop exercise (TTX) | 62 | 1 | 1.5
| Partner role (Par1) | 62 | 1 | 15/60
| Access and functional needs exercise accommodations or actions (Par2) | 62 | 1 | 0.5
| Joint exercise with emergency management and health care coalitions (Par3) | 62 | 1 | 6/60
| Vaccination of critical workforce (functional exercise, full-scale exercise, or incident) | 62 | 1 | 12/60
| Vaccination of critical workforce (point of dispensing/dispensing/vaccination clinic setup) | 62 | 1 | 12/60
| Vaccination of critical workforce (immunization information system) | 62 | 1 | 12/60
| Five-year distribution FSE OR five-year pandemic influenza full-scale exercise | 62 | 1 | 0.5
PHEP Awardees: Major Metropolitan Area Jurisdictions | Facility setup drill Site activation drill | 4 4 | 1 1 | 45/60 1
| Staff notification and assembly drill | 4 | 1 | 1
| Dispensing throughput drill | 4 | 1 | 12/60
| Five-year dispensing full-scale exercise or incident | 4 | 1 | 6/60
| Five-year dispensing full-scale exercise for each point of dispensing site exercised | 4 | 1 | 6/60

Jeffrey M. Zirger,
Lead, Information Collection Review Office, Office of Scientific Integrity, Office of Science, Centers for Disease Control and Prevention.

[FR Doc. 2021-11872 Filed 6-4-21; 8:45 am]

BILLING CODE 4163-18-P